DEPARTMENT OF TRANSPORTATION

Federal Aviation Administration

14 CFR Part 39

[Docket No. 2001-NM-205-AD; Amendment 39-12662; AD 2002-04-05]

RIN 2120-AA64

Airworthiness Directives; Airbus Model A300 B2 and A300 B4 Series Airplanes; Model A300 F4-605R Airplanes; Model A300 B4-600 and A300 B4-600R Series Airplanes; and Model A310 Series Airplanes

AGENCY: Federal Aviation Administration, DOT.

ACTION: Final rule.

SUMMARY: This amendment adopts a new airworthiness directive (AD), applicable to certain Airbus Model A300 B2 and A300 B4 series airplanes; certain Model A300 F4-605R airplanes and Model A300 B4-600 and A300 B4-600R series airplanes; and certain Model A310 series airplanes, that requires repetitive inspections to detect damage of the fillet seals and feeder cables, and of the wiring looms in the wing/pylon interface area; and corrective action, if necessary. This amendment also provides for optional terminating action for the repetitive inspections. The actions specified by this AD are intended to prevent wire chafing and short circuits in the wing leading edge/pylon interface area, which could result in loss of the power supply generator and/or system functions. This action is intended to address the identified unsafe condition.

DATES: Effective April 2, 2002.

The incorporation by reference of certain publications listed in the regulations is approved by the Director of the Federal Register as of April 2, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B2 and A300 B4 series airplanes; certain Model A300 F4-605R airplanes and Model A300 B4-600 and A300 B4-600R series airplanes; and certain Model A310 series airplanes; was published as a supplemental notice of proposed rulemaking (NPRM) in the Federal Register on January 2, 2002 (67 FR 40). That action proposed to continue to require repetitive inspections to detect damage of the fillet seals and feeder cables, and of the wiring looms in the wing/pylon interface area; and corrective action, if necessary. That action also proposed to provide for optional terminating action for the repetitive inspections. Additionally, that action proposed to require that actions be done in accordance with newly revised service bulletins, and to revise the applicability.

Comments

Interested persons have been afforded an opportunity to participate in the making of this amendment. No comments were submitted in response to the proposal or the FAA's determination of the cost to the public.

Conclusion

The FAA has determined that air safety and the public interest require the adoption of the rule as proposed.

Cost Impact

The FAA estimates that 107 airplanes of U.S. registry will be affected by this AD.

It will take approximately 6 work hours per airplane to inspect the seals/cables at an average labor rate of $60 per work hour. Based on these figures, the cost impact of this required inspection on U.S. operators is estimated to be $38,520, or $360 per airplane, per inspection cycle.

It will take approximately 5 work hours per airplane to inspect the wiring looms and apply the protection, at an average labor rate of $60 per work hour. Based on these figures, the cost impact of this required inspection on U.S. operators is estimated to be $32,100, or $300 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-04-05 Airbus Industrie: Amendment 39-12662. Docket 2001-NM-205-AD.

Applicability: The following airplanes, certificated in any category:

Table 1.—Applicability
Model— | Excluding those modified per Airbus Modification—
A300 B2-1C, A300 B2-203, A300 B2K-3C, and A300 B4 series airplanes | 11349 and 12309.
A300 B4-600 series airplanes, A300 B4-600R series airplanes, and A300 F4-605R airplanes | 11348 and 12303.
A310 series airplanes | 11350 and 12310.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent wire chafing and short circuits in the wing leading edge/pylon interface area, which could result in loss of the power supply generator and/or system functions, accomplish the following:

Inspections

(a) Within 600 flight hours after the effective date of this AD, perform a detailed visual inspection to detect damage (including erosion and tearing) and deterioration of the fillet seals and feeder cables, in accordance with Airbus Service Bulletin A300-24-0053, Revision 06, dated September 10, 2001 (for Model A300 series airplanes); A300-24-6011, Revision 05, dated May 18, 2001 (for Model A300 F4-605R airplanes and Model A300 B4-600 and A300 B4-600R series airplanes); or A310-24-2021, Revision 06, dated May 18, 2001 (for Model A310 series airplanes). Repeat the inspection thereafter at intervals not to exceed 1,000 flight hours, until the actions specified by paragraph (c) are accomplished.

(1) If no damage is detected: Prior to further flight following the initial inspection only, apply protection to each feeder cable in accordance with the applicable service bulletin.

(2) If any damage is detected: Prior to further flight, repair in accordance with the applicable service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Airbus Service Bulletins A300-24-0053, A300-24-6011, and A310-24-2021 refer to Airbus Service Bulletins A300-24-054, A300-24-6013, and A310-24-2024, respectively, as additional sources of service information for repair.

(b) Within 600 flight hours after the effective date of this AD: Perform a detailed visual inspection of the wiring looms in the area of the wing leading edge/pylon interface to detect damage (including chafing, burning, and short circuits), in accordance with Airbus Service Bulletin A300-24-0083, Revision 03, dated January 3, 2001 (for Model A300 series airplanes); A300-24-6039, Revision 07, dated August 9, 2001 (for Model A300 F4-605R airplanes and Model A300 B4-600 and A300 B4-600R series airplanes); or A310-24-2052, Revision 04, dated April 6, 2001 (for Model A310 series airplanes); as applicable. Repeat the inspection thereafter at least every 1,000 flight hours, until the actions specified by paragraph (c) of this AD have been accomplished.

(1) If no damage is detected: Prior to further flight following the initial inspection only, apply protection in accordance with the applicable service bulletin.

(2) If any damage is detected: Prior to further flight, repair in accordance with the applicable service bulletin.

Optional Terminating Action

(c) Replacement of the fillet panel assemblies with new, improved assemblies, as specified by paragraphs (c)(1), (c)(2), or (c)(3) of this AD, as applicable, terminates the requirements of this AD.

(1) For Model A300 series airplanes: Replacement of the fillet panel assemblies, if accomplished, must be done as specified by paragraph (c)(1)(i) or (c)(1)(ii) of this AD.

(i) For airplanes in the common pylon configuration: In accordance with Airbus Service Bulletin A300-54-0095, Revision 01, dated January 3, 2001, or Revision 02, dated September 7, 2001.

(ii) For airplanes in the basic pylon configuration: In accordance with Airbus Service Bulletin A300-54-0095, Revision 02, dated September 7, 2001.

(2) For Model A300 F4-605R airplanes and Model A300 B4-600 and A300 B4-600R series airplanes: Replacement of the fillet panel assemblies, if accomplished, must be done in accordance with Airbus Service Bulletin A300-54-6032, Revision 03, dated January 3, 2001.

(3) For Model A310 series airplanes: Replacement of the fillet panel assemblies, if accomplished, must be done in accordance with Airbus Service Bulletin A310-54-2033, Revision 01, dated January 3, 2001.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Incorporation by Reference

(f) The actions required by paragraph (a) of this AD shall be done in accordance with Airbus Service Bulletin A300-24-0053, Revision 06, dated September 10, 2001; Airbus Service Bulletin A300-24-6011, Revision 05, dated May 18, 2001; or Airbus Service Bulletin A310-24-2021, Revision 06, dated May 18, 2001. The actions required by paragraph (b) of this AD shall be done in accordance with Airbus Service Bulletin A300-24-0083, Revision 03, dated January 3, 2001; Airbus Service Bulletin A300-24-6039, Revision 07, dated August 9, 2001; or Airbus Service Bulletin A310-24-2052, Revision 04, dated April 6, 2001; as applicable. The optional replacement provided in paragraph (c) of this AD, if accomplished, shall be done in accordance with Airbus Service Bulletin A300-54-0095, Revision 01, dated January 3, 2001; Airbus Service Bulletin A300-54-0095, Revision 02, dated September 7, 2001; Airbus Service Bulletin A300-54-6032, Revision 03, dated January 3, 2001; or Airbus Service Bulletin A310-54-2033, Revision 01, dated January 3, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Effective Date

(g) This amendment becomes effective on April 2, 2002.

Issued in Renton, Washington, on February 12, 2002.
Vi L. Lipski,
Manager, Transport Airplane Directorate, Aircraft Certification Service.

[FR Doc. 02-4225 Filed 2-25-02; 8:45 am]

BILLING CODE 4910-13-P